DEPARTMENT OF TRANSPORTATION

Maritime Administration

Marine Transportation System National Advisory Council

ACTION: National Advisory Council public meeting.

SUMMARY: The Maritime Administration announces that the Marine Transportation System National Advisory Council (MTSNAC) will hold a meeting to discuss the Council's awareness initiative and strategic focus. A public comment period is scheduled for 1:15 to 1:45. To provide time for as many people to speak as possible, speaking time for each individual will be limited to three minutes. Members of the public who would like to speak are asked to contact Kathleen Dunn by September 5, 2000. Commenters will be placed on the agenda in the order in which notifications are received. If time allows, additional comments will be permitted. Oral comments must be submitted in writing at the meeting. Additional written comments are welcome and must be filed by September 15, 2000.

DATES: The meeting will be held on Thursday September 7, 2000, from 9:00 AM to 3:00 PM.

ADDRESSES: The meeting will be held in the Delaware Ballroom of the Marriott Wardman Park Hotel, 2660 Woodley Road, NW, Washington, DC 20008. The hotel's phone number is (202) 328-2000.

FOR FURTHER INFORMATION CONTACT: Kathleen R. Dunn, (202) 366-2307; Maritime Administration, MAR 810, Room 7209, 400 Seventh St., SW, Washington, DC 20590; Kathleen.Dunn@marad.dot.gov.

Authority: 5 U.S.C. App 2, Sec. 9(a)(2); 41 CFR 101-6.1005; DOT Order 1120.3B.

Dated: August 21, 2000.
Joel C. Richard,
Secretary, Maritime Administration.

[FR Doc. 00-21685 Filed 8-23-00; 8:45 am]

BILLING CODE 4910-81-P